ENVIRONMENTAL PROTECTION AGENCY

40 CFR Part 180

[EPA-HQ-OPP-2019-0041; FRL-10005-02]

Receipt of a Pesticide Petition Filed for Residues of Pesticide Chemicals in or on Various Commodities (October 2019)

AGENCY: Environmental Protection Agency (EPA).

ACTION: Notice of filing of petition and request for comment.

SUMMARY: This document announces the Agency's receipt of an initial filing of a pesticide petition requesting the establishment or modification of regulations for residues of pesticide chemicals in or on various commodities.

DATES: Comments must be received on or before March 12, 2020.

ADDRESSES: Submit your comments, identified by docket identification (ID) number by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Goodis, Registration Division (7505P), main telephone number: (703) 305-7090, email address: RDFRNotices@epa.gov; or Robert McNally, Biopesticides and Pollution Prevention Division (7511P), main telephone number: (703) 305-7090, email address: BPPDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of a pesticide petition filed under section 408 of the Federal Food, Drug, and Cosmetic Act (FFDCA), 21 U.S.C. 346a, requesting the establishment or modification of regulations in 40 CFR part 174 and/or part 180 for residues of pesticide chemicals in or on various food commodities. The Agency is taking public comment on the request before responding to the petitioner. EPA is not proposing any particular action at this time. EPA has determined that the pesticide petition described in this document contains data or information prescribed in FFDCA section 408(d)(2), 21 U.S.C. 346a(d)(2); however, EPA has not fully evaluated the sufficiency of the submitted data at this time or whether the data supports granting of the pesticide petition. After considering the public comments, EPA intends to evaluate whether and what action may be warranted. Additional data may be needed before EPA can make a final determination on this pesticide petition.

Pursuant to 40 CFR 180.7(f), a summary of the petition that is the subject of this document, prepared by the petitioner, is included in a docket EPA has created for this rulemaking. The docket for this petition is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

A. Amended Tolerance Exemptions for Inerts (Except PIPS)

1. PP IN-11306. (EPA-HQ-OPP-2019-0593). Spring Trading Company (203 Dogwood Trail, Magnolia, TX 77354) on behalf of Stepan Company, requests to amend an exemption from the requirement of a tolerance in 40 CFR part 180 for residues of N,N-dimethyl 9-decenamide (CAS Reg. No. 1356964-77-6) and N,N-dimethyldodecanamide (CAS Reg. No. 3007-53-2) by increasing the current limitation from 20% to unlimited when used as a pesticide inert ingredient (solvent/co-solvent) in pesticide formulations. The petitioner believes no analytical method is needed because it is not required for an exemption from the requirement of a tolerance. Contact: RD.

2. PP IN-11307. (EPA-HQ-OPP-2019-0601). Ecolab Inc., 1 Ecolab Place, St. Paul, MN 55102, requests to amend an exemption from the requirement of a tolerance for residues of 2,6-pyridinedicarboxylic acid (CAS Reg. No. 499-83-2) by expanding the current exemption to 180.940(a) and increasing the limit to 2 parts per million (ppm) when used as a pesticide inert ingredient in pesticide formulations applied to hard, non-porous food-contact surfaces in public eating places, dairy processing equipment, and food-processing equipment and utensils and establishing an exemption from the requirement of a tolerance in 180.910, limited 2 ppm when used in pesticide formulations applied to growing crops. The petitioner believes no analytical method is needed because it is not required for an exemption from the requirement of a tolerance. Contact: RD.

B. Amended Tolerances for Inerts

PP IN-11306. (EPA-HQ-OPP-2019-0593). Spring Trading Company, 203 Dogwood Trail, Magnolia, TX 77354, on behalf of Stepan Company, requests to amend an exemption from the requirement of a tolerance in 40 CFR part 180 for residues of N,N-dimethyl 9-decenamide (CAS Reg. No. 1356964-77-6) and N,N-dimethyldodecanamide (CAS Reg. No. 3007-53-2) by increasing the current limitation from 20% to unlimited when used as a pesticide inert ingredient (solvent/co-solvent) in pesticide formulations. The petitioner believes no analytical method is needed because it is not required for an exemption from the requirement of a tolerance. Contact: RD.

C. Amended Tolerances for Non-Inerts

1. PP 9E8766. (EPA-HQ-OPP-2019-0162). IR-4, IR-4 Project Headquarters, Rutgers, The State University of NJ, 500 College Road East, Suite 201 W, Princeton, NJ 08540, requests to amend 40 CFR 180.566 by removing the established tolerances for residues of fenpyroximate plus its Z-isomer, determined by measuring the sum of fenpyroximate, (E)-1,1-dimethylethyl 4-[[[[(1,3-dimethyl-5-phenoxy-1H-pyrazol-4-yl)methylene]amino]oxy]methyl]benzoate and its Z-isomer, (Z)-1,1-dimethylethyl 4-[[[[(1,3-dimethyl-5-phenoxy-1H-pyrazol-4-yl)methylene]amino]oxy]methyl]benzoate, calculated as the stoichiometric equivalent of fenpyroximate, in or on the raw agricultural commodities of: Avocado at 0.15 ppm; canistel at 0.15 ppm; mango at 0.15 ppm; papaya at 0.15 ppm; sapote, black at 0.15 ppm; and star apple at 0.15 ppm. Contact: RD.

2. PP 9E8771. (EPA-HQ-OPP-2019-0460). IR-4, Rutgers, The State University of New Jersey, 500 College Road East, Suite 201 W, Princeton, NJ 08540, proposes upon establishment of tolerances referenced in this document under “New Tolerances” for PP# 9E8771, to remove existing tolerances in 40 CFR 180.679 for residues of the insecticide flupyradifurone, 4-[[(6-chloro-3-pyridinyl)methyl](2,2-difluoroethyl)amino]- 2(5H)-furanone, including its metabolites and degradates in or on Brassica, head and stem subgroup 5A at 6.0 ppm, Brassica, leafy greens subgroup 5B at 40 ppm; cactus, fruit at 0.30 ppm; cilantro, fresh leaves at 30 ppm; coffee, green bean (import tolerance) at 1.5 ppm; leaf petioles, subgroup 4B at 9.0 ppm; leafy greens, subgroup 4A at 30 ppm; pitaya at 0.30 ppm; and turnip greens at 40 ppm. Contact: RD.

3. PP 9E8778. (EPA-HQ-OPP-2019-0526). IR-4, IR-4 Project Headquarters, Rutgers, The State University of NJ, 500 College Road East, Suite 201 W, Princeton, NJ 08540, requests to amend 40 CFR 180.635 by removing the following spinetoram tolerances: Brassica, head and stem, subgroup 5A at 2.0 ppm; brassica, leafy greens, subgroup 5B at 10 ppm; vegetable, leafy, except brassica, group 4 at 8 ppm; and cranberry at 0.04 ppm. Contact: RD.

4. PP 9E8779. (EPA-HQ-OPP-2019-0525). IR-4, IR-4 Project Headquarters, Rutgers, The State University of NJ, 500 College Road East, Suite 201 W, Princeton, NJ 08540, requests to amend 40 CFR 180.495 by removing the following spinosad tolerances: Brassica, head and stem, subgroup 5A at 2.0 ppm; brassica, leafy greens, subgroup 5B at 10 ppm; vegetable, leafy, except brassica, group 4 at 8 ppm; and cranberry at 0.01 ppm. Contact: RD.

D. New Tolerance Exemptions for Inerts (Except PIPs)

1. PP IN-11284. (EPA-HQ-OPP-2019-0591). Spring Trading Company (203 Dogwood Trail, Magnolia, TX 77354) on behalf of Sasol Chemicals (USA) LLC (Sasol) (12120 Wickchester Lane, Houston, TX 77224) requests to establish an exemption from the requirement of a tolerance for residues of 1-undecanol (CAS No. 112-42-5), 1-tetradecanol (CAS No. 112-72-1), 1-octadecanol (CAS No. 112-92-5), 1-eicosanol (CAS No. 629-96-0), 1-docosanol (CAS No. 661-19-8), Alcohols, C16-18, distn. Residues (CAS No. 68603-17-8 & CAS No. 1190630-03-5), Alkenes, C18-22, mixed with polyethylene, oxidized, hydrolyzed, distn. Residues from C16-18 alcs. Manuf. (CAS No. 1430895-61-6), Alkenes, C18-22, mixed with polyethylene, oxidized, hydrolyzed, distn. Residues from C20-22 alcs. Manuf. (CAS No. 1430895-62-7) when used as inert ingredients (carriers/adjuvants and as coating agents/binders) in pesticide formulations applied to growing crops pre- and post-harvest under 40 CFR 180.910, growing crops pre-harvest under 40 CFR 180.920, in/on animals under 180.930, and in antimicrobial formulations under 40 CFR 180.940(a). The petitioner believes no analytical method is needed because it is not required for an exemption from the requirement of a tolerance. Contact: RD.

2. PP IN-11316. (EPA-HQ-OPP-2019-0594). Verto Solutions, “VS”, 1101 17th Street, NW Suite 700, Washington, DC 20036, requests to establish an exemption from the requirement of a tolerance in 40 CFR part 180.940(a) for residues of various fragrances (CAS Nos. multiple) when used as a pesticide inert ingredient in antimicrobial pesticide formulations for use on food contact surfaces in public eating places, dairy processing equipment, and food processing equipment and utensils at end-use concentrations not to exceed 100 ppm. The petitioner believes no analytical method is needed because it is not required for an exemption from the requirement of a tolerance. Contact: RD.

3. PP IN-11339. (EPA-HQ-OPP-2019-0610). Lamberti USA, Incorporated, P.O. Box 1000, Hungerford TX 77448, requests to establish an exemption from the requirement of a tolerance in 40 CFR part 180.960 for residues of 2-Propenoic acid, homopolymer, ester with α-methyl-ω-hydroxypoly(oxy-1,2-ethanediyl) and α-[2,4,6-tris(1-phenylethyl)phenyl]-ω-hydroxypoly(oxy-1,2-ethanediyl), graft, sodium salt (CAS Reg. No. 2221936-17-8) when used as a pesticide inert ingredient in pesticide formulations as dispersants, emulsifiers, surfactants and related adjuvants of surfactants. The petitioner believes no analytical method is needed because it is not required for an exemption from the requirement of a tolerance. Contact: RD.

4. PP IN-11344. (EPA-HQ-OPP-2019-0602). Solvay USA Inc., c/o SciReg, Inc., 12733 Director's Loop, Woodbridge, VA 22192, requests to establish an exemption from the requirement of a tolerance in 40 CFR part 180.960 for residues of Poly(oxy-1,2-ethanediyl), α-sulfo-ω-hydroxy-, C10- 16-alkyl ethers, sodium salts (where average number of moles of oxyethylene = 30) (CAS Reg. No. 68585-34-2) when used as a pesticide inert ingredient in pesticide formulations. The petitioner believes no analytical method is needed because it is not required for an exemption from the requirement of a tolerance. Contact: RD.

5. PP IN-11359. (EPA-HQ-OPP-2019-0607). Milliken Chemical, 920 Milliken Road, Spartanburg, SC 29303, requests to establish an exemption from the requirement of a tolerance in 40 CFR part 180.920 for residues of Poly(oxy-1,2-ethanediyl), alpha, alpha′-{[[4-[(3-sulfophenyl)azo]phenyl]imino]di-2,1-ethanediyl}bis[omega-hydroxy-, monosodium salt (CAS Reg. No. not available) when used as a pesticide inert ingredient in pesticide formulations applied pre-harvest and not to exceed 20% wt/wt (weight/weight). The petitioner believes no analytical method is needed because it is not required for an exemption from the requirement of a tolerance. Contact: RD.

E. New Tolerances for Non-Inerts

1. PP 8F8704. (EPA-HQ-OPP-2019-0560). FMC Corporation, 2929 Walnut Street, Philadelphia, PA 19104, requests to establish a tolerance in 40 CFR part 180 for residues of the insecticide bifenthrin, in or on sunflower (crop subgroup 20B) at 0.01 ppm. The Gas Chromatography with Electron Capture Detection (GC/ECD) method is used to measure and evaluate the chemical bifenthrin residues. Contact: RD.

2. PP 8F8710. (EPA-HQ-OPP-2019-0074). SePRO Corporation, 11550 North Meridian Street, Suite 600, Carmel, IN 46032, requests to establish a tolerance in 40 CFR part 180 for residues of the herbicide fluridone in or on avocados, mandarins, pomegranates, pistachios, and the stone fruit group (crop group 12) at 0.1 ppm. The enzyme-linked immunosorbant assay (ELISA), high performance liquid chromatography with ultraviolet detection (HLPC/UV), and liquid chromatography with tandem mass spectroscopy (LC-MSMS) and QuEChERS are used to measure and evaluate the chemical fluridone. Contact: RD.

3. PP 9E8757. (EPA-HQ-OPP-2019-0492). Nissan Chemical Corporation; 5-1, Nihonbashi 2-Chome Chuo-Ku; Tokyo 101-6119 Japan c/o Lewis and Harrison; 2461 South Clark Street, Suite 710, Arlington, VA 22202 requests to establish a tolerance in 40 CFR part 180 for residues of the insecticide, fluxametamide, in or on tea at 5 ppm. An independent laboratory validation (ILV) was performed for the methods used to determine residues in crude green tea leaves using a quantification ion transition methodology. Contact: RD.

4. PP 9E8762. (EPA-HQ-OPP-2019-0389). IR-4, Rutgers, The State University of New Jersey, 500 College Road East, Suite 201 W, Princeton, NJ 08540, requests to establish a tolerance in 40 CFR part 180.614 for residues of kasugamycin, (3-O-[2-amino-4-[(carboxyimino-methyl)amino]-2,3,4,6-tetradeoxy-α-D-arabino-hexopyranosyl]-D-chiro-inositol), in or on almond at 0.04 ppm, almond, hulls at 0.4 ppm, apricot at 0.6 ppm, and peach subgroup 12-12B at 0.4 ppm. The analytical method # Meth-146, Revision #4 is used to measure and evaluate the chemical. Contact: RD.

5. PP 9E8766. (EPA-HQ-OPP-2019-0386). IR-4, IR-4 Project Headquarters, Rutgers, The State University of NJ, 500 College Road East, Suite 201 W, Princeton, NJ 08540, requests to establish tolerances for residues of fenpyroximate plus its Z-isomer, determined by measuring the sum of fenpyroximate, (E)-1,1-dimethylethyl 4-[[[[(1,3-dimethyl-5-phenoxy-1H-pyrazol-4-yl)methylene]amino]oxy]methyl]benzoate and its Z-isomer, (Z)-1,1-dimethylethyl 4-[[[[(1,3-dimethyl-5-phenoxy-1H-pyrazol-4-yl)methylene]amino]oxy]methyl]benzoate, calculated as the stoichiometric equivalent of fenpyroximate in or on the raw agricultural commodities of peanut at 0.04 ppm; peanut, hay at 30 ppm; and tropical and subtropical, medium to large fruit, smooth, inedible peel, subgroup 24B, except banana at 0.6 ppm. An enforcement method has been developed which involves extraction of fenpyroximate and the M-1 Metabolite from crops with ethyl acetate in the presence of anhydrous sodium sulfate, dilution with methanol, and then analysis by high performance liquid chromatography using tandem mass spectrometric detection (LC/MS/MS). The method has undergone independent laboratory validation as required by PR Notice 88-5 and 96-1. Contact: RD.

6. PP 9E8771. (EPA-HQ-OPP-2019-0460). IR-4, Rutgers, The State University of New Jersey, 500 College Road East, Suite 201 W, Princeton, NJ 08540, requests to establish a tolerance in 40 CFR part 180.679 for residues of the insecticide flupyradifurone, 4-[[(6-chloro-3-pyridinyl)methyl](2,2-difluoroethyl)amino]- 2(5H)-furanone, including its metabolites and degradates in or on brassica, leafy greens, subgroup 4-16B at 40 ppm, celtuce at 9 ppm, coffee, green bean at 1.5 ppm, fennel, florence, fresh leaves and stalk at 9 ppm, kohlrabi at 6 ppm, leaf petiole vegetable subgroup 22B at 9 ppm, leafy greens subgroup 4-16A at 30 ppm, pineapple at 0.3 ppm, tropical and subtropical, inedible peel, cactus, subgroup 24D at 0.3 ppm, tropical and subtropical, palm fruit, edible peel, subgroup 23C at 8 ppm, sesame, seed at 3 ppm, stalk and stem vegetable subgroup 22A, except prickly pear, pads, and prickly pear, Texas, pads at 0.01 ppm, sunflower subgroup 20B at 0.7 ppm, and vegetable, brassica, head and stem, group 5-16 at 6 ppm. Additionally, (c) a tolerance with a regional restriction is being proposed for residues of the insecticide flupyradifurone, 4-[[(6-chloro-3-pyridinyl)methyl](2,2-difluoroethyl)amino]- 2(5H)-furanone, including its metabolites and degradates in or on the raw agricultural commodity: Grass, forage, fodder and hay, group 17 at 15 ppm. The high-performance liquid chromatography-electrospray ionization/tandem mass spectrometry (HPLC/MS/MS) is used to measure and evaluate the chemical. Contact: RD.

7. PP 9E8778. (EPA-HQ-OPP-2019-0526). IR-4, IR-4 Project Headquarters, Rutgers, The State University of NJ, 500 College Road East, Suite 201 W, Princeton, NJ 08540, requests to establish tolerances for residues of the insecticide spinetoram, including its metabolites and degradates in or on the raw agricultural commodities dragon fruit at 1.5 ppm; vegetable, brassica, head and stem, group 5-16 at 2.0 ppm; kohlrabi at 2.0 ppm; brassica, leafy greens, subgroup 4-16B at 10 ppm; leafy greens subgroup 4-16A at 8.0 ppm; leaf petiole vegetable subgroup 22B at 8.0 ppm; celtuce at 8.0 ppm; fennel, Florence, fresh leaves and stalk at 8.0 ppm; and berry, low growing, except strawberry, subgroup 13-07H at 0.04 ppm. Adequate analytical methods are available for enforcement purposes for spinetoram in plant and animal matrices. Contact: RD.

8. PP 9E8779. (EPA-HQ-OPP-2019-0525). IR-4, IR-4 Project Headquarters, Rutgers, The State University of NJ, 500 College Road East, Suite 201 W, Princeton, NJ 08540, requests to establish tolerances for residues of the insecticide spinosad, including its metabolites and degradates in or on the raw agricultural commodities dragon fruit at 1.5 ppm; vegetable, brassica, head and stem, group 5-16 at 2.0 ppm; kohlrabi at 2.0 ppm; vegetable, leafy, group 4-16 at 10.0 ppm; celtuce at 10.0 ppm; fennel, Florence, fresh leaves and stalk at 10.0 ppm; leaf petiole vegetable Subgroup 22B at 10.0 ppm; and berry, low growing, except strawberry, subgroup 13-07H at 0.01 ppm. Adequate analytical methods are available for enforcement purposes for spinosad in plant, ruminant, poultry, fish, and shellfish. Contact: RD.

9. PP 9F8734. (EPA-HQ-OPP-2016-0416). BASF Corporation, 26 Davis Drive, P.O. Box 13528, Research Triangle Park, North Carolina 27709-3528, requests to establish a tolerance for residues of the insecticide afidopyropen in or on the following raw agricultural commodities: Alfalfa seed at 0.30 ppm; animal feed, nongrass, group 18, forage at 4.0 ppm; animal feed, nongrass, group 18, hay at 9.0 ppm; animal feed, nongrass, group 18, straw at 5.0 ppm; egg at 0.02 ppm; grain, aspirated fractions at 20 ppm; grass, forage, fodder and hay, group 17 at 10.0 ppm; poultry, meat byproducts at 0.02 ppm; sorghum, grain, grain at 0.20 ppm; sorghum, grain, forage at 0.30 ppm; sorghum, grain, stover at 0.30 ppm; sorghum, sweet, grain at 0.20 ppm; sorghum, sweet, forage at 0.30 ppm; sorghum, sweet, stalk at 0.30 ppm; sorghum, sweet, stover at 0.30 ppm; soybean, forage at 0.15 ppm; and soybean, hay at 0.40 ppm, and on the following animal commodities: Cattle, meat at 0.25 ppm; cattle, meat byproducts at 0.15 ppm; goat, meat at 0.25 ppm; goat, meat byproducts at 0.15 ppm; hog, meat at 0.02 ppm; hog, meat byproducts at 0.06 ppm; horse, meat at 0.25 ppm; horse, meat byproducts at 0.15 ppm; milk at 0.04 ppm; sheep, meat at 0.25 ppm; and sheep, meat byproducts at 0.15 ppm. BASF Corporation is also proposing to raise the existing tolerance for almond, hulls to 0.30 ppm. Suitable tolerance enforcement methods for plants and livestock using LC-MS/MS analyses were submitted for the analysis of afidopyropen. The reported limit of quantitation (LOQ) of each method is 0.01 ppm for afidopyropen. Contact: RD.

10. PP 9F8737. (EPA-HQ-OPP-2017-0155). Gowan Company, LLC, P.O. Box 556 Yuma, AZ 85366, requests to establish a tolerance for residues of the insecticide hexythiazox and its metabolites in or on the following raw agricultural commodities: Date, dried fruit at 3 ppm and caneberry crop subgroup 13-07A at 3 ppm. The basic analytical method was previously reviewed by the Agency in association with the establishment of the current tolerances with registrations of multiple commodities. The analytical methods used in a new date raw agricultural commodities study and a new raspberry raw agricultural commodities study are described fully in the study report, which is submitted concurrently with this petition. Contact: RD.

11. PP 9F8774. (EPA-HQ-OPP-20119-0384). FMC Corporation, 2929 Walnut Street, Philadelphia, PA 19104, requests to establish a tolerance for residues of the insecticide indoxacarb in or on the following raw agricultural commodities: Nut, tree, group 14-12 at 0.07 ppm and nut, almond, hulls at 9 ppm. The plant residue enforcement method detects and quantitates indoxacarb in various matrices including tree nuts, field corn, sweet corn, lettuce, tomato, broccoli, apple, grape, cottonseed, peanut and soybean commodity samples by LC-MS/MS. The limit of quantification in the method (0.010 ppm) allows monitoring of crops with KN128/KN127 residues at or above the levels proposed in these tolerances. Contact: RD.

Authority: 21 U.S.C. 346a.

Dated: February 6, 2020.
Delores Barber,
Director, Information Technology and Resources Management Division, Office of Pesticide Programs.

[FR Doc. 2020-02700 Filed 2-10-20; 8:45 am]

BILLING CODE 6560-50-P